DELAWARE RIVER BASIN COMMISSION

18 CFR Part 401

Final Rule; Amendment to the Delaware River Basin Commission's Administrative Manual—Rules of Practice and Procedure Concerning Fees Associated With Freedom of Information Act Requests

AGENCY: Delaware River Basin Commission.

ACTION: Final rule.

SUMMARY: The Delaware River Basin Commission's (“Commission's”) schedule of fees associated with responses to requests for information under FOIA was promulgated in 1975 and has not been updated since. Over the past quarter of a century, computer technologies have introduced new methods of recording and reproducing information that were not contemplated by the 1975 regulation, and administrative costs have increased. This action amends the Commission's Administrative Manual—Rules of Practice and Procedure to reflect current technologies and costs associated with responding to Freedom of Information Act requests.

DATES: This rule is effective September 5, 2002.

ADDRESSES: The complete Administrative Manual—Rules of Practice and Procedure as amended is available on the Commission's Web site at http://www.drbc.net or upon request from the Delaware River Basin Commission, P.O. Box 7360, West Trenton, NJ 08628-0360.

FOR FURTHER INFORMATION CONTACT: For further information, contact Pamela M. Bush, Commission Secretary and Assistant General Counsel, Delaware River Basin Commission, 609-883-9500 ext. 203.

SUPPLEMENTARY INFORMATION: On March 20, 2002 the Commission published on its web site a Notice of Proposed Rulemaking to amend the fee schedule associated with Commission responses to Freedom of Information Act (“FOIA”) requests. Notice was published in the Federal Register on March 15, 2002 (67 FR 11680), the Delaware Register of Regulations on April 1, 2002, the New Jersey Register on April 15, 2002, the New York State Register on March 13, 2002 and the Pennsylvania Bulletin on March 30, 2002. A public hearing was held on May 31, 2002, and the public was invited to comment, either in person at the hearing or in writing through the close of the hearing. No written or oral comments were received. The Commission approved the amended rule, as proposed, at the conclusion of its hearing on May 31, 2002.

List of Subjects in 18 CFR Part 401

Freedom of information.

For the reasons set forth in the preamble, amend part 401 of title 18 of the Code of Federal Regulations as follows:

PART 401—RULES OF PRACTICE AND PROCEDURE

1. The authority citation for subpart H of part 401 is revised to read as follows:

Authority: 5 U.S.C. 552.

2. In § 401.110, revise paragraph (a) to read as follows:

§ 401.110 Fees.

(a) Unless waived in accordance with the provisions of § 401.111, the following fees shall be imposed for production of any record pursuant to this part.

(1) Administrative fees. (i) Charges for administrative fees include staff time associated with:

(A) Processing FOIA requests;

(B) Locating and reviewing files;

(C) Monitoring file reviews;

(D) Generating computer records (electronic print-outs); and

(E) Preparing logs of records deemed non-public.

(ii) Administrative charges will be calculated as follows: Administrative charges will be billed to the requester per quarter hour following the first quarter hour. These charges will be billed at the current, hourly paygrade rate (pro-rated for quarter hour increments) of the personnel performing the service. Administrative charges will be in addition to any copying charges.

(iii) Appointment rescheduling/cancellation. Requesters that do not reschedule or cancel appointments to view files at least one full business day in advance of the appointment may be subject to the administrative charges incurred by the Commission in preparing the requested records. The Commission will prepare an itemized invoice of these charges and mail it to the requester for payment.

(2) Photocopying fees. The following are charges for photocopies of public records made by Commission personnel:

(i) Standard sized, black and white copies. The charge for copying standard sized, black and white public records shall be $0.15 per printed page (i.e., single-sided copies are $0.15 and double-sided copies are $0.30). This charge applies to copies on the following standard paper sizes:

(A) 8.5″ × 11″;

(B) 8.5″ × 14″;

(C) 11″ × 17″.

(ii) Color copies/printouts. The charge for color copies or color printouts shall be as follows:

(A) 8.5″ × 11″—$1.00 per page;

(B) 8.5″ × 14″—$1.50 per page;

(C) 11″ × 17″—$2.00 per page;

(D) The charge for all color copies larger than 11″ × 17″ (including, but not limited to: photographic imagery, GIS print-outs, and maps) shall be calculated at the rate of $2.50 per square foot.

(iii) Electronically generated records. Charges for copying records maintained in electronic format will be calculated by the material costs involved in generating the copies (including, but not limited to: magnetic tape, diskette, or compact disc costs) and administrative costs.

(iv) Other copying fees. The Commission, at its discretion, may arrange to have records copied by an outside contractor if the Commission does not have the resources or equipment to copy such records. In this instance, the requester will be liable for payment of these costs.

(3) Forwarding material to destination. Postage, insurance, and special fees will be charged on an actual cost basis.

* * * * *

Dated: August 29, 2002.
Pamela M. Bush,
Commission Secretary.

[FR Doc. 02-22576 Filed 9-4-02; 8:45 am]

BILLING CODE 6360-01-P